DEPARTMENT OF ENERGY

Federal Energy Regulatory Commission

[Docket No. RP00-554-000]

Pine Needle LNG Company, LLC; Notice of Filing

September 25, 2000.

Take notice that on September 20, 2000, Pine Needle LNG Company, LLC (Pine Needle) tendered for filing a motion that dealt with compliance with section 284.12(c)(3) of the Commission's regulations and certain Gas industry Board Standards. Pine Needle's filing also requested action with respect to Commission Order No. 587-L, which requires pipelines to permit shippers to offset imbalances of different contracts and to trade imbalances by November 1, 2000. Order No. 587-L also requires pipelines to file the necessary tariff changes no earlier than 60 days prior to November 1, 2000. The issues raised by Pine Needle in their September 20, 2000 filing regarding Commission Order No. 587-L will be addressed in the above-docketed proceeding.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (Call 202-208-2222 for asssistance).

David P. Boergers,
Secretary.

[FR Doc. 00-24985 Filed 9-28-00; 8:45 am]

BILLING CODE 6717-01-M